DEPARTMENT OF ENERGY

Federal Energy Regulatory Commission

Combined Notice of Filings

Take notice that the Commission has received the following Natural Gas Pipeline Rate and Refund Report filings:

Filings in Existing Proceedings

Docket Numbers: RP23-76-001.

Applicants: National Grid LNG, LLC.

Description: Compliance filing: 2022-11-08 Correction of Tariff Record to be effective 11/28/2022.

Filed Date: 11/8/22.

Accession Number: 20221108-5146.

Comment Date: 5 p.m. ET 11/15/22.

Any person desiring to protest in any the above proceedings must file in accordance with Rule 211 of the Commission's Regulations (18 CFR 385.211) on or before 5:00 p.m. Eastern time on the specified comment date.

Filings Instituting Proceedings

Docket Numbers: RP23-176-000.

Applicants: Stagecoach Pipeline & Storage Company LLC.

Description: § 4(d) Rate Filing: Stagecoach Pipeline & Storage Company LLC—Castleton SP377546 & SP377547 to be effective 1/1/2023.

Filed Date: 11/9/22.

Accession Number: 20221109-5038.

Comment Date: 5 p.m. ET 11/21/22.

Docket Numbers: RP23-177-000.

Applicants: Southern Natural Gas Company, L.L.C.

Description: Compliance filing: Annual Report on Operational Transactions 2022 to be effective N/A.

Filed Date: 11/9/22.

Accession Number: 20221109-5056.

Comment Date: 5 p.m. ET 11/21/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 9, 2022.
Debbie-Anne A. Reese,
Deputy Secretary.

[FR Doc. 2022-24933 Filed 11-15-22; 8:45 am]

BILLING CODE 6717-01-P